DEPARTMENT OF COMMERCE

Foreign-Trade Zones Board

[B-32-2024]

Foreign-Trade Zone (FTZ) 22; Authorization of Production Activity; AbbVie, Inc.; (Pharmaceutical Products); North Chicago, Illinois

On May 31, 2024, AbbVie, Inc. submitted a notification of proposed production activity to the FTZ Board for its facilities within Subzone 22S, in North Chicago, Illinois.

The notification was processed in accordance with the regulations of the FTZ Board (15 CFR part 400), including notice in the Federal Register inviting public comment (89 FR 51495, June 18, 2024). On September 30, 2024, the applicant was notified of the FTZ Board's decision that no further review of the activity is warranted at this time. The production activity described in the notification was authorized, subject to the FTZ Act and the FTZ Board's regulations, including section 400.14.

Dated: September 30, 2024.
Elizabeth Whiteman,
Executive Secretary.

[FR Doc. 2024-22826 Filed 10-2-24; 8:45 am]

BILLING CODE 3510-DS-P